DEPARTMENT OF DEFENSE

Department of the Army

Performance Review Board Membership

AGENCY: Department of the Army, DoD.

ACTION: Notice.

SUMMARY: Notice is given of the names of members of a Performance Review Board for the Department of the Army.

DATES: October 29, 2021.

FOR FURTHER INFORMATION CONTACT: Barbara Smith, Civilian Senior Leader Management Office, 111 Army Pentagon, Washington, DC 20310-0111, email: Barbara.M.Smith.civ@army.mil or Phone: (703) 693-1126.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha Adams, Executive Deputy to the Commanding General, U.S. Army Materiel Command, Redstone Arsenal, AL

2. Ms. Christina Altendorf, Chief, Engineering and Construction Division, U.S. Army Corps of Engineers, Washington, DC

3. Mr. Stephen Austin, Assistant Chief of the Army Reserve, Office of the Chief of Army Reserve, Washington, DC

4. Mr. Mark Averill, Deputy Administrative Assistant to the Secretary of the Army & Director Resources and Program Agency, Office of the Administrative Assistant to the Secretary of the Army, Washington, DC

5. Mr. Patrick Baker, Director, CCDC Army Research Laboratory, U.S. Army Combat Capabilities Development Command, Adelphi, MD

6. MG Christine A. Beeler, Commanding General, U.S. Army Contracting Command, U.S. Army Materiel Command, Redstone Arsenal, AL

7. Dr. David Bridges, Senior Research Scientist (Environmental Science), U.S. Army Corps of Engineers, Vicksburg, MS

8. Mr. William Brinkley, Deputy Chief of Staff, G-1/4 (Personnel and Logistics), U.S. Army Training and Doctrine Command, Fort Eustis, VA

9. LTG Gary Brito, Deputy Chief of Staff, Office of the Deputy Chief of Staff, G-1, Washington, DC

10. Ms. Kimberly Buehler, Director, Army Office of Small Business Programs, Office of the Secretary of the Army, Washington, DC

11. Ms. Carol Burton, Director, Civilian Human Resources Agency, Office of the Deputy Chief of Staff, G-1, Washington, DC

12. Mr. Douglas Bush, Principal Deputy Assistant Secretary of the Army (Acquisitions, Logistics and Technology), Washington, DC

13. LTG Christopher Cavoli, Commanding General, U.S. Army Europe, Wiesbaden, Germany

14. GEN Edward Daly, Commanding General, U.S. Army Materiel Command, Redstone Arsenal, AL

15. Mr. John Daniels, Deputy Assistant Secretary of the Army (Plans, Programs and Resources), Office of the Assistant Secretary of the Army (Acquisition, Logistics & Technology), Washington, DC

16. LTG Scott Dingle, The Surgeon General, Pentagon, Washington, DC

17. Ms. Karen Durham-Aguilera, Executive Director of the Army National Cemeteries Program, Office of the Secretary of the Army, Washington, DC

18. LTG Jason Evans, Deputy Chief of Staff, Office of the Deputy Chief of Staff, G-9, Washington, DC

19. Ms. Jeannette Evans-Morgis, Chief Systems Engineer, Office of the Assistant Secretary of the Army (Acquisitions, Logistics and Technology), Washington, DC

20. Dr. Elizabeth Fleming, Deputy Director, Engineer Research and Development Center, U.S. Army Corps of Engineers, Vicksburg, MS

21. Dr. Karl Friedl, Senior Research Scientist (Performance Physiology), U.S. Army Medical Command, Natick, MA

22. GEN Paul Funk, Commanding General, U.S. Army Training and Doctrine Command, Fort Eustis, VA

23. LTG Duane Gamble, Deputy Chief of Staff, Office of the Deputy Chief of Staff, G-4, Washington, DC

24. GEN Michael Garrett, Commanding General, U.S. Army Forces Command, Fort Bragg, NC

25. LTG Maria Gervais, Deputy Commanding General/Chief of Staff, U.S. Army Training and Doctrine Command, Fort Eustis, VA

26. Mr. Timothy Goddette, Deputy Assistant Secretary of the Army (Acquisition Policy and Logistics), Office of the Assistant Secretary of the Army (Acquisitions, Logistics and Technology), Washington, DC

27. Ms. Susan Goodyear, Deputy Chief Executive Officer, U.S. Army Futures Command, Austin, TX

28. Mr. Larry Gottardi, Director, Civilian Senior Leader Management Office, Washington, DC

29. MG William Graham, Deputy Commanding General for Civil and Emergency Operations, U.S. Army Corps of Engineers, Washington, DC

30. Mr. Thomas Greco, Deputy Chief of Staff for Intelligence, U.S. Army Training and Doctrine Command, Fort Eustis, VA

31. Mr. Ross Guckert, Program Executive Officer, Enterprise Information Systems, Office of the Assistant Secretary of the Army (Acquisition, Logistics & Technology), Washington, DC

32. Mr. John Hall, Deputy to the Commanding General, U.S. Army Training and Doctrine Command, Fort Eustis, VA

33. MG Richard Heitkamp, Deputy Commanding General, U.S. Army Corps of Engineers, Washington, DC

34. Mr. Michael Hutchison, Deputy to the Commander, Surface Deployment and Distribution Command, U.S. Army Materiel Command, Scott Air Force Base, IL

35. Mr. James Johnson, Deputy to the Commander, U.S. Army Space and Missile Defense Command/Army Forces Strategic Command, Huntsville, AL

36. Mr. David Kim, Director of Support, U.S. Army Intelligence and Security Command, Fort Belvoir, VA

37. Ms. Krystyna Kolesar, Assistant Deputy Chief of Staff, Office of the Deputy Chief of Staff, G-8, Washington, DC

38. Mr. Daniel Klippstein, Assistant Deputy Chief of Staff, Office of the Deputy Chief of Staff, G-9, Washington, DC

39. Mr. Michael Lacey, Deputy General Counsel (Operations and Personnel), Office of the General Counsel, Washington, DC

40. Mr. Jeffrey Langhout, Director, CCDC Ground Vehicle Systems Center, Combat Capabilities Development Command, U.S. Army Futures Command, Warren, MI

41. Mr. Alvin Lee, Director of Civil Works, U.S. Army Corps of Engineers, Washington, DC

42. Mr. Mark Lewis, Deputy to the Assistant Secretary, Office of the Assistant Secretary of the Army (Manpower and Reserve Affairs), Washington, DC

43. Mr. Stephen Loftus, Deputy Assistant Secretary of the Army (Cost and Economics), Office of the Assistant Secretary of the Army (Financial Management & Comptroller), Washington, DC

44. Mr. Christopher Lowman, Assistant Deputy Chief of Staff, Office of the Deputy Chief of Staff, G-4, Washington, DC

45. Mr. Michael Mahoney, Deputy Assistant Secretary of the Army (Army Review Boards), Arlington, VA

46. LTG Robert Marion, Principal Military Deputy, Office of the Assistant Secretary of the Army (Acquisition, Logistics & Technology), Washington, DC

47. Dr. David Markowitz, Chief Data Officer & Analytics Officer, Office of the Deputy Chief of Staff, G-8, Washington, DC

48. Mr. David May, Senior Cyber Intelligence Advisor, U.S. Army Training and Doctrine Command, Fort Gordon, GA

49. MG Jeffrey Milhorn, Deputy Commanding General for Military and International Operations, U.S. Army Corps of Engineers, Washington, DC

50. Dr. Eric Moore, Director, Chemical and Biological Center, Combat Capabilities Development Command, U.S. Army Futures Command, Aberdeen Proving Ground, MD

51. Mr. Harry Mornston, Director, Intelligence and Security Directorate, U.S. Army Futures Command, Austin, TX

52. LTG John Morrison, Jr., Deputy Chief of Staff, Office of the Deputy Chief of Staff, G-6, Washington, DC

53. Mr. Larry Muzzelo, Deputy to the Commanding General, U.S. Army Communications-Electronics Command, U.S. Army Materiel Command, Aberdeen Proving Ground, MD

54. Mr. Levator Norsworthy, Jr., Deputy General Counsel (Acquisition), Office of the General Counsel, Washington, DC

55. Ms. Karen Pane, Director of Human Resources, U.S. Army Corps of Engineers, Washington, DC

56. LTG Eric Peterson, Deputy Chief of Staff, G-8, Pentagon, Washington, DC

57. LTG Walter E. Piatt, Director of the Army Staff, Pentagon, Washington, DC

58. Mr. Jamie A. Pinkham, Principle Deputy Assistant Secretary of the Army (Civil Works)

59. Dr. David Pittman, Director, Research and Development, U.S. Army Corps of Engineers, Vicksburg, MS

60. Mr. Ronald Pontius, Deputy to the Commanding General, U.S. Army Cyber Command, Fort Belvoir, VA

61. LTG Laura Potter, Deputy Chief of Staff, G-2, Washington, DC

62. LTG Leopoldo Quintas, Jr., Deputy Commanding General, U.S. Army Forces Command, Fort Bragg, NC

63. LTG James Rainey, Deputy Chief of Staff, Office of the Deputy Chief of Staff, G-3/5/7, Washington, DC

64. Ms. Diane Randon, Assistant Deputy Chief of Staff, Office of the Deputy Chief of Staff, G-2, Washington, DC

65. Dr. Peter Reynolds, Senior Research Scientist (Physical Sciences), Combat Capabilities Development Command, U.S. Army Futures Command, Durham, NC

66. Ms. Anne Richards, The Auditor General, U.S. Army Audit Agency, Fort Belvoir, VA

67. Mr. J. Randall Robinson, Executive Deputy to the Commanding General, U.S. Army Installation and Management Command, Fort Sam Houston, TX

68. Dr. Dawn Rosarius, Principal Assistant for Acquisition, U.S. Army Medical Command, Fort Detrick, MD

69. Dr. Robert Sadowski, Senior Research Scientist (Robotics), Combat Capabilities Development Command, U.S. Army Futures Command, Warren, MI

70. Mr. Meriwether Sale, Director of Operations, U.S. Army Intelligence and Security Command, Fort Belvoir, VA

71. Mr. Bryan Samson, Deputy to the Commanding General, U.S. Army Contracting Command, U.S. Army Materiel Command, Redstone Arsenal, AL

72. Ms. Karen Saunders, Program Executive Officer, (Simulation, Training and Instrumentation), U.S. Army Acquisition Support Center, Orlando, FL

73. Mr. Craig Schmauder, Deputy General Counsel (Installations, Environment and Civil Works), Office of the General Counsel, Washington, DC

74. Dr. Brian Smith, Senior Research Scientist (Radio Frequency Sensor), Technology Development Directorate, Aviation and Missile Center, U.S. Army Combat Capabilities Development Command, Redstone Arsenal, AL

75. Ms. Lauri Snider, Senior Advisor (Counter Intelligence, Disclosure, and Security), Office of the Deputy Chief of Staff, G-2, Washington, DC

76. Ms. Caral Spangler, Assistant Secretary of the Army (Financial Management and Comptroller), Washington, DC

77. LTG Scott Spellman, Commanding General, U.S. Army Corps of Engineers, Washington, DC

78. Mr. Thomas Steffens, Director of Resource Management, U.S. Army Corps of Engineers, Washington, DC

79. Mr. Vance Stewart, Deputy Assistant Secretary of the Army (Management and Budget), Office of the Assistant Secretary of the Army (Civil Works), Washington, DC

80. Mr. John E. Surash, Deputy Assistant Secretary of the Army (Energy and Sustainability)

81. Mr. Robin Swan, Director, Office of Business Transformation, Washington, DC

82. Mr. Douglas Tamilio, Director, CCDC Soldier Center, U.S. Army Combat Capabilities Development Command, Natick, MA

83. Mr. Roy Wallace, Assistant Deputy Chief of Staff, Office of the Deputy Chief of Staff, G-1, Washington, DC

84. Mr. John S. Willison, Deputy to the Commanding General, Combat Capabilities Development Command, U.S. Army Futures Command, Aberdeen Proving Ground, MD

85. Ms. Kathryn Yurkanin, Principal Deputy Chief, Office of the Chief Legislative Liaison, Washington, DC

James W. Satterwhite, Jr.,
Army Federal Register Liaison Officer.

[FR Doc. 2021-24586 Filed 11-9-21; 8:45 am]

BILLING CODE 5061-AP-P